DEPARTMENT OF COMMERCE

National Oceanic and Atmospheric Administration

RIN 0648-XE715

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from the Massachusetts Division of Marine Fisheries contains all of the required information and warrants further consideration. This Exempted Fishing Permit would allow a commercial fishing vessel to retain approximately 600 sublegal-sized male, and egg-bearing, v-notched, and sublegal-sized female lobsters during normal fishing operations in Lobster Management Area 2 for use in reproductive laboratory research being conducted by Massachusetts Division of Marine Fisheries.

Regulations under the Magnuson-Stevens Fishery Conservation and Management Act and the Atlantic Coastal Fisheries Cooperative Management Act require publication of this notification to provide interested parties the opportunity to comment on applications for proposed Exempted Fishing Permits.

DATES: Comments must be received on or before July 28, 2016.

ADDRESSES: You may submit written comments by any of the following methods:

• Email to: nmfs.gar.efp@noaa.gov. Include in the subject line “MA DMF Climate Change Lobster EFP.”

• Mail to: John K. Bullard, Regional Administrator, NMFS, Greater Atlantic Regional Fisheries Office, 55 Great Republic Drive, Gloucester, MA 01930. Mark the outside of the envelope “Comments on MA DMF Climate Change Lobster EFP.”

FOR FURTHER INFORMATION CONTACT: Cynthia Hanson, NOAA Affiliate, 978-281-9180.

SUPPLEMENTARY INFORMATION: Massachusetts Division of Marine Fisheries (MA DMF) submitted a complete application for an Exempted Fishing Permit (EFP) on June 27, 2016, to conduct commercial fishing activities that the regulations would otherwise restrict. The EFP would authorize one vessel to possess and transport approximately 600 sublegal-sized male, and egg-bearing, v-notched, and sublegal-sized female lobsters during normal fishing operations in Lobster Management Area (LMA) 2. These lobsters will be delivered to MA DMF staff for use in laboratory research. The research will study the effects of climate change and thermal stress on reproduction in lobsters and requires reproductively capable lobsters to examine/observe mating success, fecundity, egg quality, and overall reproductive capacity.

Funding for this study has been awarded under the Saltonstall-Kennedy Research Program (Grant #NA16NMF4270242). This study is designed to investigate the decline and recruitment failure of the Southern New England lobster stock. MA DMF is requesting specific exemptions from Federal lobster regulations on:

1. Minimum legal size harvest and possession requirements specified at 50 CFR 697.20(a)(4);

2. Restrictions on the harvest, possession, and transport of egg-bearing females at § 697.20(d)(1) through (3); and

3. Restrictions on the harvest and possession of standard v-notch females detailed at § 697.20(g)(3) through (4).

If the EFP is approved, all exempted collections would take place on designated collection days during the normal commercial fishing activity of the participating vessel. No additional and/or modified gear or effort would be used, so no additional impacts to bycatch, marine mammals, or endangered species are anticipated beyond the risks associated with normal fishing operations. This project will collect approximately 400 egg-bearing females and 200 otherwise restricted lobsters for scientific study. All lobsters caught under the EFP for research purposes would be banded with a different color to distinguish them from the legally harvestable commercial catch, and any egg-bearing females would be held separately from the remainder of the catch. A MA DMF staff member would meet the vessel at the dock after each collection trip to take possession of the EFP-authorized lobsters and bring them to the MA DMF facility for processing and experimental study. No more than a total of four collection days/trips of typical commercial fishing activity are anticipated under this EFP.

If approved, MA DMF may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: July 8, 2016.
Emily H. Menashes,
Acting Director, Office of Sustainable Fisheries, National Marine Fisheries Service.

[FR Doc. 2016-16571 Filed 7-12-16; 8:45 am]

BILLING CODE 3510-22-P